DEPARTMENT OF HEALTH AND HUMAN SERVICES

National Institutes of Health

National Institute of Neurological Disorders and Stroke; Amended Notice of Meeting

Notice is hereby given of a change in the meeting of the National Advisory Neurological Disorders and Stroke Council, May 24, 2001, 10:30 am to May 25, 2001, 12 pm, 45 Center Drive, Natcher Building, Conference Room E½, Bethesda, MD, 20892 which was published in the Federal Register on May 2, 2001, 66 FR 21994.

The Training Sub. & Neuroinformatics, Computational Neurosci. & Infrastracture Sub. is changed to an open session; the time remains the same. The Clinical Trials Sub. will be open from 8:30 am to 9 am and closed from 9 am to 10 am. The meeting is partially Closed to the public.

Dated: May 17, 2001.
LaVerne Y. Stringfield,
Director, Office of Federal Advisory Committee Policy.

[FR Doc. 01-13107 Filed 5-23-01; 8:45 am]

BILLING CODE 4140-01-M